DEPARTMENT OF JUSTICE

Antitrust Division

Notice Pursuant to the National Cooperative Research and Production Act of 1993_Industrial Macromolecular Crystallography Association (“IMCA”)

Notice is hereby given that, on November 17, 2003, pursuant to Section 6(a) of the National Cooperative Research and Production Act of 1993_Industrial Macromolecular Crystallography Association (IMCA) has filed written notifications simultaneously with the Attorney General and the Federal Trade Commission disclosing changes in its membership status. The notifications were filed for the purpose of extending the Act's provisions limiting the recovery of antitrust plaintiffs to actual damages under specified circumstances. Specifically, Novartis Institute for Biomedical Research, Inc., Cambridge, MA has been added as a party to this venture. Also, The Procter and Gamble Distributing Company, Cincinnati, OH; Pharmacia Corporation, Peapack, NJ; Pharmacia and Upjohn Company, Peapack, NJ; and Glaxo Wellcome Inc., Research Triangle Park, NC have been dropped as parties to this venture.

No other changes have been made in either the membership or planned activity of the group research project. Membership in this group research project remains open, and IMCA intends to file additional written notification disclosing all changes in membership.

On October 23, 1990, IMCA filed its original notification pursuant to Section 6(a) of the Act. The Department of Justice published a notice in the Federal Register pursuant to section 6(b) of the Act on December 3, 1990 (55 FR 49953).

The last notification was filed with the Department on July 18, 2000. A notice was published in the Federal Register pursuant to section 6(b) of the Act on May 23, 2001 (66 FR 28546).

Dorothy B. Fountain,
Deputy Director of Operations Antitrust Division.

[FR Doc. 03-30735 Filed 12-11-03; 8:45 am]

BILLING CODE 4410-11-M